PATENT AND TRADEMARK OFFICE

Customer Panel Quality Survey

ACTION: Proposed collection; comment request.

SUMMARY: The United States Patent and Trademark Office (USPTO), as part of its continuing effort to reduce paperwork and respondent burden, invites the general public and other Federal agencies to take this opportunity to comment on this new information collection, as required by the Paperwork Reduction Act of 1995, Public Law 104-13 (44 U.S.C. 3506(c)(2)(A)).

DATES: Written comments must be submitted on or before June 19, 2006.

ADDRESSES: You may submit comments by any of the following methods:

• E-mail: Susan.Brown@uspto.gov. Include “0651-00xx Customer Panel Quality Survey” in the subject line of the message.

• Fax: 571-273-0112, marked to the attention of Susan Brown.

• Mail: Susan K. Brown, Records Officer, Office of the Chief Information Officer, Architecture, Engineering and Technical Services, Data Architecture and Services Division, U.S. Patent and Trademark Office, P.O. Box 1450, Alexandria, VA 22313-1450.

• Federal e-Rulemaking Portal: http://www.regulations.gov.

FOR FURTHER INFORMATION CONTACT: Requests for additional information should be directed to the attention of Martin Rater, Management Analyst, Office of Patent Quality Assurance, U.S. Patent and Trademark Office, P.O. Box 1450, Alexandria, VA 22313-1450; by telephone 571-272-5966; by facsimile at 571-273-5966; or by e-mail at martin.rater@uspto.gov.

SUPPLEMENTARY INFORMATION:

I. Abstract

For over the past 10 years, the USPTO has used surveys to obtain customer feedback regarding the products, services, and related service standards of the USPTO. The USPTO used the data to measure how well the agency is meeting established customer service standards, to identify any disjoints between customer expectations and USPTO performance, and to develop improvement strategies. Typically, these surveys ask customers to express their satisfaction with the USPTO's products and services based upon their interactions with the agency as a whole over a 12 month period.

To obtain further data concerning customer ratings of the USPTO's services, service standards, and performance, the USPTO has developed the proposed Customer Panel Quality Survey. This study will narrow the focus of customer satisfaction to examination quality and will use a longitudinal, rotating panel design to assess changes in customer perceptions and to identify key areas for examiner training and opportunities for improvement. All patent agents and attorneys who have been registered to practice before the USPTO for longer than one year and who belong to a company or firm that has filed six or more patents in the past year will be eligible for the study. The study will also include independent inventors who have filed six or more patents in the past year. The USPTO will draw a random sample of these customers from their database. Due to the rotating panel design, some sample members will be surveyed twice in order to measure change over a period of time. Each year of the survey will include four waves of data collection.

The Customer Panel Quality Survey is a mail survey, although respondents also have the option to complete the survey electronically on the Web. The content of both versions will be identical. A survey packet containing the questionnaire, a separate cover letter prepared by the Commissioner of Patents, a postage-paid, pre-addressed return envelope, and instructions for completing the survey electronically will be mailed to all sample members. A pre-notification letter, reminder/thank you postcards, and telephone calls will be used to encourage response from the sample members.

This is a voluntary survey and all responses will remain confidential. The collected data will not be linked to the respondent and contact information that is used for sampling purposes will be maintained in a separate file from the quantitative data. Respondents are not required to provide any identifying information such as their name, address, or Social Security Number. In order to access and complete the online survey, respondents will need to use the username and password provided by the USPTO.

II. Method of Collection

By mail, or electronically over the Internet if respondents choose to complete the survey online.

III. Data

OMB Number: 0651-00xx.

Form Number(s): N/A.

Type of Review: New information collection.

Affected Public: Individuals or households; business or other for profit; not-for-profit institutions; Federal Government; and state, local, or tribal Government.

Estimated Number of Respondents: 3,168 responses per year. Out of a sample size of 2,842 for each wave of data collection, the USPTO estimates that 792 completed surveys will be received. Each year of the survey will include four waves of data collection with an estimated 3,168 completed surveys received. Of this total, the USPTO estimates that 70% or 2,218 surveys will be returned by mail and that 30% or 950 surveys will be completed using the online option.

Estimated Time per Response: The USPTO estimates that it will take approximately 10 minutes (0.17 hours) to complete either the paper or online version of this survey. This includes the time to gather the necessary information, complete the request, and submit it to the USPTO.

Estimated Total Annual Respondent Burden Hours: 539 hours per year.

Estimated Total Annual Respondent Cost Burden: $154,154 per year. The USPTO believes that patent attorneys will be responding to these surveys. Using the professional hourly rate of $286 for associate attorneys in private firms, the USPTO estimates that the salary costs for the respondents completing these surveys will be $154,154 per year.

Item | Estimated time for response (min) | Estimated annual responses | Estimated annual burden hours
Customer Panel Quality Survey (paper) | 10 | 2,218 | 377
Customer Panel Quality Survey (electronic) | 10 | 950 | 162
Total |  | 3,168 | 539

Estimated Total Annual Non-hour Respondent Cost Burden: $0 per year. There are no capital start-up, maintenance, operation, or recordkeeping costs, nor are there any filing fees associated with this information collection. The USPTO covers the costs of all survey materials and provides postage-paid, pre-addressed return envelopes for the completed mail surveys.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: April 13, 2006.
Susan K. Brown,
Records Officer, U.S. Patent and Trademark Office, Office of the Chief Information Officer, Architecture, Engineering and Technical Services, Data Architecture and Services Division.

[FR Doc. E6-5929 Filed 4-19-06; 8:45 am]

BILLING CODE 3510-16-P